COMMITTEE FOR PURCHASE FROM PEOPLE WHO ARE BLIND OR SEVERELY DISABLED

Procurement List; Proposed Additions and Deletion

AGENCY: Committee for Purchase From People Who Are Blind or Severely Disabled.

ACTION: Proposed additions to and deletion from procurement list.

SUMMARY: The Committee is proposing to add to the Procurement List commodities and services to be furnished by nonprofit agencies employing persons who are blind or have other severe disabilities, and to delete commodity previously furnished by such agencies.

Comments Must Be Received On or Before: August 27, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, the entities of the Federal Government identified in this notice for each commodity or service will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information. The following commodities and services have been proposed for addition to Procurement List for production by the nonprofit agencies listed:

Commodities

Replicated Class V—Training Aids

1315-00-NSH-0001

1315-00-NSH-0002

1315-00-NSH-0003

1315-00-NSH-0004

1315-00-NSH-0005

1315-00-NSH-0006

1315-00-NSH-0007

1315-00-NSH-0008

1315-00-NSH-0009

1315-00-NSH-0010

1315-00-NSH-0011

1315-00-NSH-0012

1315-00-NSH-0013

1315-00-NSH-0014

1315-00-NSH-0015

1315-00-NSH-0016

1315-00-NSH-0017

1315-00-NSH-0018

1315-00-NSH-0019

1315-00-NSH-0020

1315-00-NSH-0021

1315-00-NSH-0022

1315-00-NSH-0023

1315-00-NSH-0024

1315-00-NSH-0025

1315-00-NSH-0026

1315-00-NSH-0027

1315-00-NSH-0028

1315-00-NSH-0029

1315-00-NSH-0030

1315-00-NSH-0031

1315-00-NSH-0032

1315-00-NSH-0033

1315-00-NSH-0034

1315-00-NSH-0035

1315-00-NSH-0036

1315-00-NSH-0037

1315-00-NSH-0038

1315-00-NSH-0039

1315-00-NSH-0040

1315-00-NSH-0041

1315-00-NSH-0042

1315-00-NSH-0043

1315-00-NSH-0044

1315-00-NSH-0045

1315-00-NSH-0046

1315-00-NSH-0047

1315-00-NSH-0048

1315-00-NSH-0049

1315-00-NSH-0050

1315-00-NSH-0051

1315-00-NSH-0052

1315-00-NSH-0053

1315-00-NSH-0054

1315-00-NSH-0055

1315-00-NSH-0056

1315-00-NSH-0057

1315-00-NSH-0058

1315-00-NSH-0059

1315-00-NSH-0060

1315-00-NSH-0061

1315-00-NSH-0062

1315-00-NSH-0063

1315-00-NSH-0064

1315-00-NSH-0065

1315-00-NSH-0066

1315-00-NSH-0067

NPA: Vernon Sheltered Workshop, Leesville, Louisiana

Government Agency: Department of the Army

Cord, Fibrous, Nylon

4020-00-246-0688

NPA: East Texas Lighthouse for the Blind, Tyler, Texas

Government Agency: Defense Supply Center Philadelphia

Envelope, Translucent

7530-01-354-3982

NPA: Industries for the Blind, Inc., Milwaukee, Wisconsin

Government Agency: GSA/Office Supplies and Paper Products Commodity Center For all depots except Fort Worth, Texas which was added to the Procurement List in 1997

Cob Web Duster

M.R. 1044

NPA: Industries for the Blind, Inc., Milwaukee, Wisconsin

Government Agency: Defense Commissary Agency

Lint Mitt

M.R. 1790

NPA: Beacon Lighthouse, Inc., Wichita Falls, Texas

Government Agency: Defense Commissary Agency

Wild Cat Air Freshener

M.R. 1791

NPA: Industries of the Blind, Inc., Greensboro, North Carolina

Government Agency: Defense Commissary Agency

Sneaker Balls

M.R. 1792

NPA: Industries of the Blind, Inc., Greensboro, North Carolina

Government Agency: Defense Commissary Agency

Assorted Air Freshener Balls

M.R. 1793

NPA: Industries of the Blind, Inc., Greensboro, North Carolina

Government Agency: Defense Commissary Agency

Services

Base Supply Center

Naval Air Station, Joint Reserve Base, Fort Worth, Texas

NPA: Tarrant County Association for the Blind, Fort Worth, Texas

Government Agency: Naval Reserve, Fort Worth, Texas

Central Facility Management

Bureau of Alcohol, Tobacco and Firearms, Canine Training Facility, 122 Calvary Drive, Front Royal, Virginia

NPA: Northwestern Workshop, Inc., Winchester, Virginia

Government Agency: DOJ/Bureau of Alcohol, Tobacco and Firearms

Commissary Shelf Stocking, Custodial & Warehousing

Marine Corps Base, Twenty-Nine Palms, California

NPA: PRIDE Industries, Roseville, California

Government Agency: U.S. Marine Corps

Food Service Attendant

Dakota Inn, Flight Kitchen and Alert Facility, Minot AFB, North Dakota

NPA: Minot Vocational Adjustment Workshop, Inc., Minot, North Dakota

Government Agency: Department of the Air Force

Grounds Maintenance

Naval Base, Ventura County, California

NPA: The Arc of Santa Maria Valley, Santa Maria, California

Government Agency: Department of the Navy

Janitorial/Custodial, Anniston Army Depot, Anniston, Alabama

NPA: Opportunity Center Easter Seal Rehabilitation Facility, Anniston, Alabama

Government Agency: Anniston Army Depot

Janitorial/Custodial, Naco Border Patrol Station, 2136 Naco Highway, Bisbee, Arizona

NPA: Cochise County Association for the Handicapped, Bisbee, Arizona

Government Agency: DOJ/Immigration and Naturalization Service

Janitorial/Custodial, Department of the Interior, Main and South Buildings

Washington, DC

NPA: The Chimes, Inc., Baltimore, Maryland

Government Agency: Department of the Interior

Janitorial/Custodial, USDA/ Henry A. Wallace Beltsville, Agricultural Center, Beltsville, Maryland

NPA: Melwood Horticultural Training Center, Upper Marlboro, Maryland

Government Agency: U.S. Department of Agriculture

Janitorial/Custodial At the following Federal Building Locations in Baltimore, Maryland:

Middle River Depot, 2800 Eastern Blvd

Fallon Federal Building, 31 Hopkins Plaza

Fallon Federal Child Development Center, 200 W Lombard Street

U.S. Customs House, 40 S. Gay Street

Appraisers Stores Building, 103 S. Gay Street

NPA: The Chimes, Inc., Baltimore, Maryland

Government Agency: GSA/Chesapeake Realty Services

Janitorial/Custodial, >U.S. Coast Guard, MSO/Group Portland, 6767 North Basin Avenue, Portland, Oregon

NPA: Portland Habilitation Center, Inc., Portland, Oregon

Government Agency: DOT/U.S. Coast Guard

Mailing Services, U.S. Army Engineer District, Detroit, Michigan

NPA: Jewish Vocational Service and Community Workshop, Inc., Southfield, Michigan

Government Agency: U.S. Army Engineer District

Manufacturing and Development Assistance, U.S. Army Natick Soldier Center, Natick, Massachusetts

NPA: Southeastern Kentucky Rehabilitation Industries, Inc., Corbin, Kentucky

Government Agency: U.S. Army Natick Soldier Center

Records Management Service, USAF Reserve Personnel Center, Denver, Colorado

NPA: Bayaud Industries, Inc., Denver, Colorado

Government Agency: U.S. Air Force Reserve

Vehicle Registration Service, River's Building, Information Center and Mail Provost Marshall's Office, Fort Hood, Texas

NPA: Training, Rehabilitation & Development Institute, Inc., San Antonio, Texas

Government Agency: Department of the Army

Deletion

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46—48c) in connection with the commodities and services proposed for deletion from the Procurement List.

The following commodity has been proposed for deletion from the Procurement List:

Commodity

Peeler, Potato, Hand

7330-00-238-8316

Sheryl D. Kennerly,
Director, Information Management.

[FR Doc. 01-18814 Filed 7-26-01; 8:45 am]

BILLING CODE 6353-01-P